DEPARTMENT OF VETERANS AFFAIRS

[OMB Control No. 2900-0728]

Proposed Information Collection (Operation Enduring Freedom/Operation Iraqi Freedom Veterans Health Needs Assessment) Activity; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information to develop a program that will improve the quality and relevance of care, as it pertains to access for mental health and use of mental health facilities for returning Operation Enduring Freedom/Operation Iraqi Freedom veterans and their families.

DATES: Written comments and recommendations on the proposed collection of information should be received on or before January 23, 2012.

ADDRESSES: Submit written comments on the collection of information through the Federal Docket Management System (FDMS) at http://www.Regulations.gov or to Cynthia Harvey-Pryor, Veterans Health Administration (10P7BFP), Department of Veterans Affairs, 810 Vermont Avenue, NW., Washington, DC 20420; or email: cynthia.harvey-pryor@va.gov. Please refer to “OMB Control No. 2900-0728” in any correspondence. During the comment period, comments may be viewed online through FDMS.

FOR FURTHER INFORMATION CONTACT: Cynthia Harvey-Pryor at (202) 461-5870 or FAX (202) 273-9381.

SUPPLEMENTARY INFORMATION: Under the PRA of 1995 (Pub. L. 104-13; 44 U.S.C. 3501—3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Operation Enduring Freedom/Operation Iraqi Freedom Veterans Health Needs Assessment, VA Form 10-21091.

OMB Control Number: 2900-0728.

Type of Review: Extension of a currently approved collection.

Abstract: VA Form 10-21091 is used to gather input from returning war zone veterans to identify their needs, concerns and health care preferences. The data collected will help VA to improve the quality and relevance of care offered as well as access to care through the removal of identified barriers to care and to develop care pathways as indicated by veterans' responses to the survey.

Affected Public: Individuals and Households.

Estimated Annual Burden: 1,000 hours.

Estimated Average Burden per Respondent: 20 minutes.

Frequency of Response: On occasion.

Estimated Number of Respondents: 3,000.

Dated: November 17, 2011.
By direction of the Secretary.
Denise McLamb,
Program Analyst, Enterprise Records Service.

[FR Doc. 2011-30087 Filed 11-21-11; 8:45 am]

BILLING CODE 8320-01-P